DEPARTMENT OF HEALTH AND HUMAN SERVICES

Centers for Disease Control and Prevention

Notice of Award of a Single-Source Grant To Fund Task Force for Global Health, Inc.

AGENCY: Centers for Disease Control and Prevention (CDC), Department of Health and Human Services (HHS).

ACTION: Notice.

SUMMARY: The Centers for Disease Control and Prevention (CDC), located within the Department of Health and Human Services (HHS) announces the award of approximately $47,000,000 in COVID-19 funding with an expected total funding of $100,000,000 over a five-year period to the Task Force for Global Health to expand the influenza and COVID-19 vaccine coverage in low- and middle-income countries.

DATES: The period for this award will be September 30, 2021 through September 29, 2026.

FOR FURTHER INFORMATION CONTACT: Archana Kumar, National Center for Immunization and Respiratory Diseases, Centers for Disease Control and Prevention, 1600 Clifton Road NE, MS-H24-8, Atlanta, GA 30329, Telephone: 800-232-6348, E-Mail: eocevent445@cdc.gov.

SUPPLEMENTARY INFORMATION: The single-source award will introduce and/or expand influenza vaccine programs, contribute to evidence base for influenza control and prevention, and leverage efforts to deploy pandemic vaccines to low- and middle-income countries.

The Task Force for Global Health will be awarded as a single-source because of their specific experience collaborating with multiple partners in facilitating the use of influenza vaccines in low- to middle-income countries and in developing local and global evidence base for sustained use of lifesaving vaccines since 2014. The Task Force for Global Health is uniquely qualified to support countries to plan for, implement and evaluate COVID-19 vaccination programs since they are currently working with the same risk groups using established tools and platforms under an existing cooperative agreement. The Task Force for Global Health leads the Partnership for Influenza Vaccine Introduction which includes ministries of health from 15 countries, private industry, and the United Nations International Children's Emergency Fund. This Partnership creates sustainable, seasonal influenza vaccination programs in the targeted countries, works with the World Health Organization to prepare for pandemic influenza, and supports countries' efforts to control and prevent seasonal outbreaks.

Summary of the Award

Recipient: The Task Force For Global Health.

Purpose of the Award: The purpose of award is to expand the use of influenza and COVID-19 vaccines in low- and middle-income countries (LMICs), support influenza vaccine introduction through a public-private partnership, establish an evidence base for global vaccine introduction decisions, and leverage this partnership to support readiness for and deployment of future pandemic vaccines. The recipient will be expected to assist partner countries to plan, implement, and evaluate vaccination programs for influenza and COVID-19.

Amount of Award: $47,000,000 in Federal Fiscal Year (FFY) 2021 funds, and an estimated total of $100,000,000 over the five-year period of performance, subject to availability of funds.

Period of Performance: September 30, 2021 through September 29, 2026.

Authority: Section 307 of the Public Health Service Act, as amended (42 U.S.C. 242l).

Dated: August 12, 2021.
Joseph I. Hungate III,
Deputy Director, Office of Financial Resources, Office of the Chief Operating Officer, Centers for Disease Control and Prevention.

[FR Doc. 2021-17678 Filed 8-17-21; 8:45 am]

BILLING CODE 4163-18-P